DEPARTMENT OF HOUSING AND URBAN DEVELOPMENT

24 CFR Parts 982 and 983

[Docket No. FR-6243-N-01]

Section 8 Housing Choice Vouchers: Revised Implementation of the HUD-Veterans Affairs Supportive Housing Program

AGENCY: Office of the Assistant Secretary for Public and Indian Housing, HUD.

ACTION: Implementation guidance.

SUMMARY: This document sets forth the policies and procedures for the administration of tenant-based and project-based Section 8 Housing Choice Voucher (HCV) rental assistance under the HUD-Veterans Affairs Supportive Housing (HUD-VASH) program administered by local public housing agencies (PHAs) that have partnered with local Veterans Affairs (VA) medical facilities or other entities as designated by the Secretary of the Department of Veteran Affairs. This document updates the definition for the term VA medical center (VAMC) to also include designated service providers (DSP). This document also includes new waivers and program flexibilities as well as additional general guidance.

DATES: The guidance is effective September 27, 2021.

FOR FURTHER INFORMATION CONTACT: Ryan Jones, Director, Housing Voucher Management and Operations Division, Department of Housing and Urban Development, 451 Seventh Street SW, Room 4216, Washington, DC 20410, telephone number 202 708-0477. (This is not a toll-free number.) Individuals with hearing or speech impediments may access this number via TTY by calling the Federal Relay during working hours at 800-877-8339. (This is a toll-free number.)

SUPPLEMENTARY INFORMATION:

I. Background

II. Special Rules for the HUD-VASH Voucher Program

a. Family Eligibility and Selection

b. Income Eligibility

c. Initial Term of the HCV

d. Initial Lease Term

e. Ineligible Housing

f. Mobility and Portability of HUD-VASH Vouchers

g. Case Management Requirements

h. Termination of Assistance

i. Turnover of HUD-VASH Vouchers

j. MTW Agencies

k. Project-Based Assistance

l. Section Eight Management Assessment Program (SEMAP)

m. Reallocation of HUD-VASH Vouchers

n. HQS Inspections

o. Exception Payment Standards

p. Special Housing Types

q. Maximum Family Share at Initial Occupancy

III. Reporting Requirements

I. Background

Since 2008, HCV program funding has provided rental assistance under a supportive housing program for homeless veterans authorized by section 8(o)(19) of the United States Housing Act of 1937, 42 U.S.C. 1437f(o)(19). The HUD-VASH program combines HUD HCV rental assistance for homeless veterans with case management and clinical services provided at VA Medical Centers, Community-Based Outpatient Clinics, or through a designated service provider (DSP) as approved by the VA Secretary (herein referred to generally as VAMC or DSP). Through the HUD-VASH program, HUD and VA increase access to affordable housing for homeless veterans and provide the support necessary to obtain and maintain permanent housing in the community.

Based on a review of existing permanent supportive housing (PSH) models, typical acuity levels of veterans in the program, and the availability of providers within VAMCs and in the community who can augment care provided by HUD-VASH case managers, the Secretaries of HUD and VA jointly determined that the appropriate caseload ratio in HUD-VASH is a weighted average of 25 veterans per case manager. However, actual caseload sizes can vary considerably, based primarily on the needs of the veterans being served. Veterans in HUD-VASH are weighted based on their stage in the program, with higher weightings applied to veterans in more intensive stages of the program, and lower weightings applied to those who have stabilized. These weightings and target caseload ratios ensure that all veterans in receipt of a HUD-VASH voucher are seen as needed by their case manager.

The initiative known as the HUD-VASH program was authorized pursuant to Division K, Title II, of The Consolidated Appropriations Act, 2008 (Pub. L. 110-161) (“2008 Appropriation Act”) enacted on December 26, 2007 (see proviso (7) under the heading “Tenant-Based Rental Assistance”). All Congressional Appropriations Acts since 2008 have continued to authorize this program. Therefore, the implementation requirements will remain in effect until the HUD-VASH program is no longer authorized by Congress or the authorization requirements change.

The Appropriations Acts have required HUD to “make such funding available, notwithstanding section 204 (competition provision) of this title, to PHAs that partner with eligible VAMCs or other entities as designated by the Secretary of the Department of Veterans Affairs, based on geographical need for such assistance as identified by the Secretary of the Department of Veterans Affairs, PHA administrative performance, and other factors as specified by the Secretary of Housing and Urban Development in consultation with the Secretary of the Department of Veterans Affairs.”

Based on this language, the allocation of HUD-VASH vouchers have been a collaborative, data-driven effort conducted by HUD and the VA. The HUD-VASH allocation formula relies on several pieces of data which include HUD's point-in-time data submitted by Continuums of Care and VA data on contacts with homeless veterans. PHA and VA performance is also taken into consideration.

Additional information on program requirements and procedures may be found on the HUD-VASH website at HUD-VASH website.

II. Special Rules for the HUD-VASH Voucher Program

This section sets forth the design features of the HUD-VASH program, including family eligibility, portability, case management, and the turnover of these vouchers. This document replaces the special rules published in the Federal Register on March 23, 2012 (77 FR 17086). The FY2008-2021 Appropriations Acts stated “that the Secretary of Housing and Urban Development (in consultation with the Secretary of the Department of Veterans Affairs) may waive, or specify alternative requirements for any provision of any statute or regulation that the Secretary of Housing and Urban Development administers in connection with the use of funds made available under this paragraph (except for requirements related to fair housing, nondiscrimination, labor standards, and the environment) upon a finding by the Secretary that any such waivers or alternative requirements are necessary for the effective delivery and administration of such voucher assistance: Provided further, that assistance made available under this paragraph shall continue to remain available for homeless veterans upon turnover.”

This document outlines below the waivers or alternative requirements determined by the Secretary to be necessary for the effective delivery and administration of the HUD-VASH program. These waivers or alternative requirements are exceptions to the normal HCV requirements, which otherwise govern the provision of HUD-VASH assistance. In addition, a PHA may request additional statutory or regulatory waivers that it determines are necessary for the effective delivery and administration of the program. These requests may be submitted to the Secretary for review and decision through the Assistant Secretary for Public and Indian Housing through the regular waiver process.

HUD-VASH vouchers under this part are administered in accordance with the HCV tenant-based and project-based rental assistance regulations set forth at 24 CFR part 982 and 983, respectively. In both programs, the PHA pays monthly rental subsidies so that eligible families can afford decent, safe, and sanitary housing, secure from threats of danger, harm, or loss. HUD provides housing assistance funds to the PHA, as well as funds for PHA administration of the program.

Under the HCV program, families select rent units that meet program housing quality standards (HQS). If the PHA approves a family's unit and tenancy, the PHA contracts with the property owner to make monthly subsidy payments (housing assistance payments) directly to the owner on behalf of the family . The family enters a lease with the owner and pays its share of the rent to the owner in accordance with the lease. Under the HCV tenant-based voucher (TBV) program, the housing assistance payments (HAP) contract between the PHA and the owner covers only a single unit and a specific assisted family. If the family moves out of the leased unit, the HAP contract with the owner terminates. The family may generally move to another unit with continued assistance so long as the family is complying with program requirements.

Under the project-based voucher (PBV) program, families occupy units under a PBV HAP contract. Generally, there are multiple units under the PBV HAP contract. In many cases supportive services are provided on-site. All the PBV requirements in 24 CFR part 983 apply except where waived as described below.

Unless expressly noted below, all regulatory requirements and HUD directives regarding the HCV TBV and PBV programs are applicable to HUD-VASH vouchers, including the use of all HUD-required contracts and other forms. The PHA's local discretionary policies adopted in the PHA's written administrative plan apply to HUD-VASH vouchers unless such local policy conflicts with the requirements of the HUD-VASH vouchers outlined below.

PHAs are required to maintain records that allow for the easy identification of families receiving HUD-VASH vouchers. PHAs must identify these families in the Information Management System/Public and Indian Housing Information Center (IMS/PIC). This record-keeping will help ensure that, in accordance with appropriations renewal language, HUD-VASH vouchers that are in use will remain available for homeless veterans upon turnover.

The alternative requirements established in this Notice apply to all PHAs that administer HUD-VASH vouchers, including those that have not received an allocation of HUD-VASH vouchers, but administer these vouchers as a receiving PHA under the portability feature of the HCV program.

The new waivers and program flexibilities include: (1) New authorization allowing a PHA to act in the role of the VAMC or DSPs for the purposes of family selection in cases where the PHA has been previously approved for this authority (section II.a.); (2) new allowance for a PHA and owner to agree to amend a PBV HAP contract to re-designate a regular PBV unit as a unit specifically designated for HUD-VASH families (section II.k); (3) new authorization for PHAs to apply separate payment standards for HUD-VASH families without additional HUD approval (section II.o.); and (4) new requirement that PHAs must allow Special Housing Types for HUD-VASH (section II.p.).

The updates made to existing requirements include: (1) Allowing PHAs to house HUD-VASH veterans referred by the VA in a project-based voucher unit without selecting from the PHA's waiting lists or applying local preferences (section II.a); (2) additional explanation regarding the process for portability moves for victims of domestic violence, dating violence, sexual assault, and stalking (section II.f); (3) additional details regarding case management requirements from the VAMC or DSP (section II.g); (4) explanation that, in the case of a family break-up, the HUD-VASH assistance must stay with the HUD-VASH veteran; however, in the case of domestic violence, dating violence, sexual assault, or stalking in which the HUD-VASH veteran is the perpetrator, the victim must continue to be assisted (section II.h.); (5) explanation that a Moving to Work (MTW) PHA can apply their approved MTW provisions to their HUD-VASH program with approval from HUD's Housing Choice Voucher office (section II.j.); (6) explanation regarding the application of HUD-VASH waivers and flexibilities to HUD-VASH PBV (section II.k); (7) explanation of HUD-VASH PBV exceptions under the Housing Opportunities Through Modernization Act (HOTMA) (section II.k.); (8) explanation that when a HUD-VASH family is eligible to move from its PBV unit the family must be able to move with a HUD-VASH tenant-based voucher (section II.k.); and (9) additional explanation of the HUD-VASH reallocation process through voluntary moves between PHAs and voucher recapture for future reallocation (section II.m.).

This document does not direct, provide for assistance or loan and mortgage insurance for, or otherwise govern or regulate, real property acquisition, disposition, leasing, rehabilitation, alteration, demolition or new construction, or establish, revise or provide for standards for construction or construction materials, manufactured housing, or occupancy. Accordingly, under 24 CFR 50.19(c)(1), this document is categorically excluded from environmental review under the National Environmental Policy Act of 1969 (42 U.S.C. 4321).

a. Family Eligibility and Selection

HUD-VASH eligible families consist of homeless veterans and their families. The Appropriations Acts have provided for statutory or regulatory waivers or alternative requirements upon a finding by the Secretary that such waivers or alternatives are necessary for the effective administration and delivery of voucher assistance (except for requirements related to fair housing, nondiscrimination, labor standards, and the environment). The December 17, 2007, Explanatory Statement for the 2008 Appropriation Act provides, “The Appropriations Committees expect that these vouchers will be made available to all homeless veterans, including recently returning veterans.” ¹ Section 8(o)(19) of the United States Housing Act of 1937 (USHA of 1937), which requires homeless veterans to have chronic mental illnesses or chronic substance use disorders with required treatment of these disorders as a condition of receipt of HUD-VASH assistance, is waived.

¹ See, 153 Cong. Rec. H16514 (daily ed., Dec. 17, 2007), https://www.congress.gov/crec/2007/12/17/CREC-2007-12-17-pt3-PgH16381.pdf.

By agreeing to administer the HUD-VASH program, the PHA is relinquishing its authority to determine the eligibility of families in accordance with regular HCV program rules and PHA policies with the exceptions of income eligibility and lifetime sex offender status. Specifically, under the HUD-VASH program, PHAs will not have the authority to screen any potentially eligible family members or deny assistance for any grounds permitted under 24 CFR 982.552 (broad denial for violations of HCV program requirements) and 982.553 (specific denial for criminal activity and alcohol abusers), with one exception. PHAs will still be required to prohibit admission if any member of the household is subject to a lifetime registration requirement under a state sex offender registration program. However, unless the family member that is subject to lifetime registration under a state sex offender registration program is the homeless veteran (which would result in denial of admission for the family), the remaining family member/s may be served if the family agrees to remove the sex offender from its family composition. Accordingly, HUD is exercising its authority to waive 42 U.S.C. 1437d(s); 42 U.S.C. 13661(a), (b), and (c); and 24 CFR 982.552 and 982.553 regarding the denial of admission, except for 982.553(a)(2)(i), which requires denial of admission to certain registered sex offenders. These provisions also apply to PBV assistance.

Eligibility determination and veteran selection is done by the VAMC, DSP, or the PHA, as described later in this section. In the case of the VAMC or DSP, HUD-VASH eligible families are referred to the partnering PHA for the issuance of a voucher or selection for a PBV unit. As stated above, the PHA must accept these referrals, and written documentation of these referrals must be maintained in the tenant file at the PHA.

PHAs are not authorized to maintain a waiting list or apply local preferences for the HUD-VASH program. Instead, VA case managers refer HUD-VASH eligible families to the PHA for the issuance of a HUD-VASH voucher or project-based assistance. If a HUD-VASH-eligible family is referred and there is an available PBV unit that is not exclusively made available to HUD-VASH families, the PHA may also offer to refer the family to the owner for occupancy of that unit if allowable under the selection policy applicable to that project, and the owner and PHA may amend the PBV HAP contract to designate the PBV unit as a HUD-VASH PBV unit. Accordingly, sections 8(o)(6)(A) and (B) and 8(o)(13)(J) of the USHA of 1937, 42 U.S.C. 1437f(o)(6)(A) and (B) and (o)(13)(J), regarding preferences, have been waived to provide for the effective administration of the program. In addition, 24 CFR 982.202, 982.204, 982.207, and 983.251 relating to applicant selection from the waiting list and local preferences, are also waived. Section 983.251(a)(4), which disallows renting to relatives except when it may be necessary as a reasonable accommodation, is not waived. Note that 24 CFR 982.202(b)(3) (Family characteristics); 24 CFR 982.202(d) (Admission policy); and 24 CFR 983.251(a)(3) (VAWA applies to admission to the project-based voucher program) continue to apply. Sections 982.203, 982.205, and 982.206 regarding special admissions, cross-listing of the waiting list, and opening and closing the waiting list do not apply to the HUD-VASH program.

The VA may approve a PHA with unleased HUD-VASH vouchers as a DSP for the purposes of veteran selection and intake. This DSP approval allows a PHA to issue a HUD-VASH voucher to a veteran without a referral from the VA. The PHA is responsible for determining the veteran is eligible for VA HUD-VASH case management. The PHA must refer the veteran to the VA for case management and must provide temporary case management until the VAMC has completed intake of the veteran. PHAs approved under this authority must ensure that while using unleased HUD-VASH vouchers, they maintain sufficient HUD-VASH vouchers available to immediately issue a HUD-VASH voucher to veterans referred by the VA. HUD and the VA will publish further guidance on the requirements for a PHA to be approved and additional details necessary for PHAs to implement this provision. Until such guidance is issued, PHAs may not be approved as DSPs.

Regarding verifying Social Security Numbers (SSN) for homeless veterans and their family members, an original document issued by a federal or state government agency which contains the name of the individual and the SSN of the individual along with other unique identifying information of the individual is acceptable in accordance with 24 CFR 5.216(g). In the case of the homeless veteran, the PHA must accept the Certificate of Release or Discharge from Active Duty (DD-214) or the VA-verified Application for Health Benefits (10-10EZ) as verification of SSN and cannot require the veteran to provide an SSN card. These documents must also be accepted for proof of age purposes in lieu of birth certificates or other PHA-required documentation. Please note that veterans are also issued photo identification cards by the VA. If such identification is required by the PHA, these cards must be accepted by the PHA in lieu of another type of government-issued photo identification. These cards may also be used to verify SSNs and date of birth.

When adding a family member after the HUD-VASH family is admitted to the program, the rules of § 982.551(h)(2) apply. Other than the birth, adoption, or court-awarded custody of a child, the PHA must approve additional family members and may apply its regular screening criteria in doing so.

*** Civil rights requirements cannot be waived. The HUD-VASH program is administered in accordance with applicable civil rights and fair housing requirements. These include applicable authorities under 24 CFR 5.105(a) and 24 CFR 982.53 including, but not limited to, the Fair Housing Act, Section 504 of the Rehabilitation Act of 1973, Title VI of the Civil Rights Act of 1964, the Age Discrimination Act, the Americans with Disabilities Act, and HUD's Equal Access Rule.²

² See 24 CFR 5.105(a); See also, U.S. Department of Housing and Urban Development, Fair Housing Rights and Obligations, https://www.hud.gov/program_offices/fair_housing_equal_opp/fair_housing_rights_and_obligations (last visited Sept. 17, 2021).

When HUD-VASH applicants or recipients include veterans with disabilities or family members with disabilities, HUD's reasonable accommodation requirements apply. These standards require PHAs to make a reasonable adjustment to rules, policies, practices, and procedures when it may be necessary to enable an applicant or resident with a disability to have an equal opportunity to use and enjoy a dwelling, the common areas of a dwelling, or participate in or access a recipient's programs and activities. These standards extend to various aspects of program implementation, including, for example, denial or termination of assistance, initial search term of the HCV, initial lease term, and informal reviews and hearings. In the case of project-based assistance, this also includes providing structural changes to a unit or public or common use area when they may be needed as a reasonable accommodation for an applicant or participant or their household members with a disability. Other obligations include, for example, effective communication with persons with disabilities, physical accessibility requirements, and overall nondiscrimination in the administration of the program.*

b. Income Eligibility

The PHA must determine income eligibility for HUD-VASH families in accordance with 24 CFR 982.201. Income targeting requirements of section 16(b) of the USHA of 1937, as well as 24 CFR 982.201(b)(2), do not apply for HUD-VASH families so that participating PHAs can effectively serve the eligible population specified in the Appropriations Acts; that is, homeless veterans, who may be at a variety of income levels, including low-income. The PHA may, however, choose to include the admission of extremely low-income HUD-VASH families in its income targeting numbers for the fiscal year in which these families are admitted. In conformance with normal program rules, PHAs may not deny admission to a family with zero income and must consider hardship circumstances before charging a minimum rent in accordance with 24 CFR 5.630(b).

c. Initial Search Term of the Voucher

Recognizing the challenges that HUD-VASH participants may face with their housing search, HUD-VASH vouchers must have an initial search term of at least 120 days. Therefore, 24 CFR 982.303(a), which states that the initial search term must be at least 60 days, shall not apply, since the initial term must be at least 120 days. Any extensions, suspensions, and progress reports will remain under the policies in the PHA's administrative plan but will apply after the minimum 120-day initial search term. Extensions of search terms may also be needed as a reasonable accommodation for a household with a member with a disability, such as for example, due to the difficulty in finding a unit that meets one's disability-related needs, e.g., physically accessible unit, unit near accessible transportation, unit near medical or other facilities.

d. Initial Lease Term

Under the HCV program, voucher participants must enter an initial lease with the owner for at least one year, unless a shorter term would improve housing opportunities for the tenant and the shorter term is a prevailing market practice. To provide a greater range of housing opportunities for HUD-VASH voucher holders, initial leases may be less than 12 months; therefore, both section 8(o)(7)(A) of the USHA of 1937, 42 U.S.C. 1437f(o)(7)(A), and 24 CFR 982.309(a)(2)(ii) are waived. Note that this waiver does not apply to PBVs.

e. Ineligible Housing

HUD-VASH families will be permitted to live on the grounds of a VA facility in units developed to house homeless veterans. This applies to both tenant-based assistance and PBV. Therefore, 24 CFR 982.352(a)(5) and 983.53(a)(2), which prohibit units on the physical grounds of a medical, mental, or similar public or private institution, are waived for that purpose only.

f. Mobility and Portability of HUD-VASH Vouchers

An eligible family issued a HUD-VASH voucher must receive case management services provided by the partnering VAMC or DSP. Therefore, special mobility and portability procedures must be established. HUD-VASH participant families may reside only in those jurisdictional areas that are accessible to case management services as determined by the VAMC or DSP. Since the VAMC or DSP will be identifying homeless veterans eligible to participate in the HUD-VASH program, section 8(r)(1)(B)(i) of the USHA of 1937, 42 U.S.C. 1437f(r)(1(B)(i), which restricts portability in cases where the family did not reside in the jurisdiction of the PHA at the time of application for HCV assistance, and 24 CFR 982.353(a), (b), and (c), which affects where a family can lease a unit with HCV assistance, do not apply. HUD may publish PIH notices from time to time to further explain portability requirements under the HUD-VASH program.

(1) Portability Moves Within Same Catchment Area (or Area of Operation) Where Case Management Is Provided by the Initial PHA's Partnering VAMC or DSP

If the family initially leases up, or moves, under portability provisions, but the initial PHA's partnering VAMC or DSP will still be able to provide the necessary case management services due to the family's proximity to the partnering VAMC or DSP, the receiving PHA must process the move in accordance with the portability procedures of 24 CFR 982.355. However, since the initial PHA must maintain records on all HUD-VASH families receiving case management services from its partnering VAMC or DSP, receiving PHAs without a HUD-VASH program must bill the initial PHA. Therefore, 24 CFR 982.355(d), which gives the receiving PHA the option to absorb the family into its own HCV program or bill the initial PHA, is not applicable.

(2) Portability Moves Within Same Catchment Area Where Both PHAs Have Received HUD-VASH Vouchers

The receiving PHA may bill the initial PHA or absorb the family into its own HUD-VASH program if the VAMC or DSP providing the initial case management agrees to the absorption by the receiving PHA and the transfer of case management. The absorption will also entail the availability of a HUD-VASH voucher and case management provision by the receiving PHA's partnering VAMC or DSP.

(3) Portability Moves Where Receiving PHA Is Beyond Catchment Area

If a family wants to move to another jurisdiction where it will not be possible for the initial PHA's partnering VAMC or DSP to provide case management services, the VAMC or DSP must first determine that the HUD-VASH family could be served by another VAMC or DSP that is participating in this program, and the receiving PHA must have a HUD-VASH voucher available for this family. In these cases, the family must be absorbed by the receiving PHA either as a new admission (upon initial participation in the HUD-VASH program) or as a portability move-in (after an initial leasing in the initial PHA's jurisdiction). Upon absorption, the initial PHA's HUD-VASH voucher will be available to lease to a new HUD-VASH eligible family, as determined by the partnering VAMC or DSP, and the absorbed family will count toward the number of HUD-VASH slots awarded to the receiving PHA.

When the receiving PHA completes the Family Report (HUD-50058) under the scenario described above, the action type that must be recorded on line 2a is “1” for a new admission (a family that is new to the HCV program) or “4” for a portability move-in (a family that was previously leased up in the jurisdiction of the initial PHA). Whether the family is a new admission or portability move-in, in section 12 of the HUD-50058, line 12d is always marked “Y.” In cases of portability where families move out of the catchment area of the initial PHA, 12e must be 0 since the family must be absorbed, and 12f must be left blank.

(4) Portability Moves Where Receiving PHA Is Beyond Catchment Area for Victims of Domestic Violence, Dating Violence, Sexual Assault, and Stalking

Veterans who request to port beyond the catchment area of the VAMC or DSP where they are receiving case management to protect the health or safety of a person who is or has been the victim of domestic violence, dating violence, sexual assault, or stalking, and who reasonably believes him- or herself to be threatened with imminent harm from further violence by remaining in the dwelling unit (or any family member has been the victim of a sexual assault that occurred on the premises during the 90-calendar-day period preceding the family's move or request to move), may port prior to receiving approval from the receiving VAMC or DSP. The initial PHA must follow its emergency transfer plan as described in 24 CFR 5.2005(e). PHAs may require verbal self-certification or a written request from a participant seeking a move beyond the catchment area of the VAMC or DSP.

The verbal self-certification or written request must include either, a statement expressing why the participant reasonably believes that there is a threat of imminent harm from further violence if the participant were to remain in the same dwelling unit assisted under the PHA; or a statement that the tenant was a sexual assault victim and that sexual assault occurred on the premises during the 90-day period preceding the participant's request for the move. The veteran escaping violence must be admitted to the VAMC or DSP's caseload. The participant must still port to a PHA that has a HUD-VASH program; if the receiving PHA does not have a HUD-VASH voucher available to lease, they may bill the initial PHA until a HUD-VASH voucher is available, at which point the porting veteran must be absorbed into the receiving PHA's program.

(5) Portability Moves when Case Management Is No Longer Required

If the family no longer requires case management, as determined by the VAMC or DSP, there are no portability restrictions. PHAs must follow the regulatory requirements for portability found at 24 CFR 982.355. When completing the HUD-50058, the family will continue to be coded “VASH” on line 2n unless the family has been moved to a regular voucher, in which case the code in 2n would be left blank.

g. Case Management Requirements

The VAMC or DSP's responsibilities include: (1) The screening of homeless veterans to determine whether they meet the HUD-VASH program participation criteria established by the VA national office; (2) assisting veterans with the PHA application and assisting the veteran family with obtaining needed PHA documentation to ensure rapid voucher issuance; (3) referrals of homeless veterans to the PHA; (4) providing case management and supportive services to potential HUD-VASH program participants, as needed, prior to PHA issuance of rental vouchers; (5) providing housing search assistance to HUD-VASH participants with rental vouchers; (6) identifying the social service and medical needs of HUD-VASH participants and providing, or ensuring the provision of, regular ongoing case management, outpatient health services, hospitalization, and other supportive services, as needed, throughout this initiative; and (7) maintaining records and providing information for evaluation purposes, as required by HUD and the VA.

As a condition of HCV rental assistance, both tenant-based assistance and PBV, a HUD-VASH eligible veteran must receive the case management services noted above, as needed, directly from or arranged by, the VAMC or DSP. The VAMC or DSP, in consultation with the veteran, is responsible for determining if case management is required and if the case management requirement is satisfied.

If a veteran no longer requires case management, but maintains their HUD-VASH voucher assistance, the VAMC or DSP will maintain contact with the veteran family to provide support and planning assistance with the recertification and reinspection process. The VAMC or DSP case manager will remain available to provide support to the veteran family, as needed.

h. Termination of Assistance

There are two alternative requirements for termination of assistance for HUD-VASH participants. As detailed above, HUD-VASH voucher assistance is contingent upon participation in case management, as required by the VAMC or DSP. If the VAMC or DSP has determined that a veteran is not participating in required case management, without good cause, the PHA must terminate the family from the HUD-VASH program. However, a VAMC or DSP determination that the veteran does not require or no longer requires case management is not grounds for termination of voucher or PBV assistance. In such case, and at its option, the PHA may offer the family continued assistance through one of its regular vouchers, to free up the HUD-VASH voucher for another eligible family referred by the VAMC or DSP. If the PHA has no voucher to offer, the family will retain its HUD-VASH voucher, or PBV unit, until such time as the PHA has an available voucher for the family. If the family no longer requires case management, there are no portability restrictions. Normal portability rules apply.

Second, PHAs may terminate a family evicted from housing assisted under the program for a serious violation of the lease, but they are not required to do so. As such, the regulation at 24 CFR 982.552((b)(2) is amended to state, “The PHA may terminate program assistance for a family evicted from housing assisted under the program for serious violation of the lease.” Prior to terminating HUD-VASH participants, HUD strongly encourages PHAs to exercise their discretion under 24 CFR 982.552(c)(2) and consider all relevant circumstances of the specific case, as well as including the role of the case manager and the impact that ongoing case management services can have on mitigating the conditions that led to the potential termination, prior to determining whether to terminate assistance. PHAs also must grant reasonable accommodations for persons with disabilities in accordance with 24 CFR part 8. In addition, a HUD-VASH participant family must not be terminated after admission, for a circumstance or activity that occurred before admission and was known to the PHA but could not be considered at the time of admission due to the HUD-VASH Operating Requirements. The PHA can only terminate the family's assistance for program violations that occur after the family's admission to the voucher program.

Generally, in the case of a family break-up, the HUD-VASH assistance must stay with the HUD-VASH veteran. However, in the case of domestic violence, dating violence, sexual assault, or stalking, in which the HUD-VASH veteran is the perpetrator, the victim must continue to be assisted. Upon termination of the perpetrator's HUD-VASH voucher due to the perpetrator's acts of domestic violence, dating violence, sexual assault, or stalking, the victim must be given a regular HCV if one is available, and the perpetrator's HUD-VASH voucher must be used to serve another eligible veteran family. If a regular HCV is not available for the victim, the perpetrator must be terminated from assistance, and the victim will continue to utilize the HUD-VASH voucher.

i. Turnover of HUD-VASH Vouchers

In accordance with the Appropriations Acts, upon turnover, HUD-VASH vouchers must be issued to homeless veteran families as identified by the VAMC or DSP, as noted above.

j. Moving-to-Work (MTW) Agencies

HUD-VASH vouchers may be administered in accordance with flexibilities approved under PHA's Standard MTW Agreement or MTW Operations Notice with approval from HUD's Housing Choice Voucher office. PHAs must submit a request through their local field office to operate HUD-VASH in accordance with approved MTW flexibilities. Requests will be approved provided the flexibilities to not conflict with the stated HUD-VASH program requirements. However, these vouchers are never eligible for MTW fungibility. HUD-VASH vouchers must be reported in the IMS/PIC system on either the regular HUD-50058 or HUD-MTW 50058 for vouchers under the agency's MTW Agreement.

k. Project-Based Assistance

Section 8(o)(13)(D) of the USHA of 1937 (42 U.S.C. 1437(o)(13)(D)), as amended by Section 106(a)(3) of the Housing Opportunities Through Modernization Act (HOTMA) (Pub. L. 114-201, 130 Stat. 782), is waived for HUD-VASH vouchers so that all units exclusively made available to HUD-VASH families in a PBV project are exempted from the PBV income-mixing requirements (project cap). The project cap refers to the number of units in a project that may receive PBV assistance and is generally the higher of 25 units or 25 percent of units in the project. Units exclusively made available to HUD-VASH families are excluded from (do not count against) this PBV project cap. Additionally, HUD-VASH supportive services only need to be provided to all HUD-VASH families in the project, not all families receiving PBV assistance in the project. If a HUD-VASH family does not require or no longer requires case management, the unit continues to count as an excepted PBV unit for as long as the family resides in that unit. Likewise, Section 8(o)(13)(B) of the USHA of 1937, 42 U.S.C. 1437f(o)(13)(B)), as amended by Section 106(a)(2) of HOTMA, is waived for HUD-VASH vouchers so that HUD-VASH units made available under a competitive PIH notice for HUD-VASH PBV units, are exempt from the PBV program limitation. This exception only applies to HUD-VASH PBV vouchers awarded through the HUD-VASH PBV set-aside process. All other HUD-VASH vouchers that the PHA opts to project-base, are still subject to the PBV program limitation.

Pursuant to the HUD-VASH case management and termination requirements, a HUD-VASH family's PBV assistance must be terminated for failure to participate in case management as required by the VAMC or DSP. Upon notification by the VAMC or DSP of the family's failure to participate, without good cause, in case management, the PHA must provide the family a reasonable time period (as established by the PHA) to vacate the unit. The PHA must terminate assistance to the family at the earlier of (1) the time the family vacates or (2) the expiration of the reasonable time period given to vacate (the lease terminates at the same time as termination of assistance per 24 CFR 983.256(f)(3)(v)). If the family fails to vacate the unit within the established time, the owner may evict the family. If the owner does not evict the family, the PHA must remove the unit from the HAP contract or amend the HAP contract to substitute a different unit in the project if the project is partially assisted. A PHA may add the removed unit to the HAP contract after the ineligible family vacates the property.

If a HUD-VASH family is eligible to move from its PBV unit and there is no HUD-VASH tenant-based voucher available at the time the family requests to move, the PHA may require a family that still requires case management to wait for a HUD-VASH tenant-based voucher for a period not to exceed 180 days. If a HUD-VASH tenant-based voucher is still not available after that time period, the family must be allowed to move with its HUD-VASH voucher. Alternatively, the PHA may allow the family to move with its HUD-VASH voucher without having to meet this 180-day waiting period. In either case, the PHA may either replace the assistance in the PBV unit with one of its regular vouchers if the unit is eligible for a regular PBV (for instance, so long as the unit is not on the grounds of a medical facility and so long as the unit is eligible under the PHA's program and project caps) or the PHA and owner may agree to temporarily remove the unit from the HAP contract. If a HUD-VASH veteran has been determined to no longer require case management, the PHA must allow the family to move with the first available tenant-based voucher if no HUD-VASH voucher is immediately available and cannot require the family to wait for a HUD-VASH voucher to become available.

Under HOTMA, PHAs no longer need authorization from HUD to convert tenant-based HUD-VASH vouchers to project-based HUD-VASH vouchers. However, PHAs must consult with the partnering VAMC or DSP to ensure approval of the project. PHAs and the partnering VAMC or DSP are expected to communicate regarding the PBV planning and development. PHAs may project-base HUD-VASH vouchers in projects alongside other PBV units (the other PBV units must be attached in accordance with PBV requirements) and may execute a single HAP contract covering both the HUD-VASH PBVs and the other PBVs. In the description of units in Exhibit A of the HAP contract, PHAs must indicate the number of units that will be exclusively made available to HUD-VASH families. The PHA must refer only HUD-VASH families to PBV units exclusively made available to HUD-VASH families and to PBV units funded through a HUD-VASH PBV set-aside award. The PHA and owner may agree to amend a PBV HAP contract to re-designate a regular PBV unit as a unit specifically designated for HUD-VASH families, so long as the PHA first consults with the VAMC or DSP. Additionally, the PHA and owner may agree to amend a PBV HAP contract to re-designate a unit specifically designated for HUD-VASH families as a regular PBV unit, so long as the unit is not funded through a HUD-VASH PBV set-aside award and is eligible for a regular PBV (for instance, the unit is not on the grounds of a medical facility and the unit is eligible under the PHA's program and project caps).

PBV project selection for HUD-VASH must follow all regular project selection regulations.

l. Section Eight Management Assessment Program (SEMAP)

HUD-VASH vouchers will remain excluded from the SEMAP leasing indicator. Therefore, 24 CFR 985.3(n)(1)(i) and (ii) are still waived. During a HUD-VASH PHA's calendar year, the prorated budget authority available for HUD-VASH vouchers and the units associated with that budget authority will be excluded from the denominators for both units leased, and dollars expended.

m. Reallocation of HUD-VASH Vouchers

Under the Appropriation Acts, Congress has directed VA and HUD to collaboratively allocate HUD-VASH vouchers based on current geographical need for such assistance. In recognition that there may be changes and shifts in the population of homeless veterans over time, it may become necessary for the VA and HUD to jointly reallocate HUD-VASH vouchers to better address the current needs of the homeless veteran population. This reallocation may be done in one of two ways. If there is continued need at the VAMC or DSP, HUD-VASH vouchers may be voluntarily moved between PHAs administering HUD-VASH programs within the same VAMC or DSP catchment area. Alternatively, if it has been determined that a VAMC or DSP no longer has sufficient need and will not be able to utilize their available HUD-VASH vouchers, HUD and VA may choose to jointly recapture HUD-VASH vouchers from the VAMC or DSP and any partnering PHA(s). Recaptured vouchers, and any associated funding, will be reallocated through a national allocation process, to areas with current need. HUD will issue additional PHA guidance on both HUD-VASH voucher voluntary moves within a VAMC or DSP and the HUD-VASH recapture processes.

n. HQS Inspections

To expedite the leasing process for tenant-based HUD-VASH, PHAs may pre-inspect available units that veterans may be interested in leasing to maintain a pool of eligible units. If a HUD-VASH family selects a unit that passed a HQS inspection (without intervening occupancy) within 45 days of the date of the Request for Tenancy Approval (form HUD-52517), the unit may be approved as long as it meets all other conditions under 24 CFR 982.305. As required by 24 CFR 982.353(e), a PHA is prohibited from directly or indirectly reducing the family's opportunity to select among all available units. All regulatory requirements pertaining to HQS found at 24 CFR 982.401 apply to HUD-VASH.

o. Exception Payment Standards

Many housing markets with a high need for HUD-VASH are very competitive with a shortage of affordable rental units. In addition, landlords may be reluctant to rent to homeless individuals due to poor credit history or other issues. To assist HUD-VASH participants in finding affordable housing, especially in competitive markets, HUD is waiving 24 CFR 982.503(a)(3) to allow a PHA to establish a HUD-VASH exception payment standard. Without this waiver, a PHA is required to establish a single payment standard amount for each unit size. Additionally, 982.503(b)(iii) is waived so that PHAs may go up to, but no higher than 120 percent of the published metropolitan area-wide FMRs or Small Area FMRs (based on which FMRs the PHA is applying) specifically for HUD-VASH families. A PHA that wants to establish a HUD-VASH exception payment standard over 120 percent must still request a waiver from HUD through the regular waiver process outlined in notice PIH 2018-16, or any successor notices. Exception payment standards implemented by the PHA under this Section also apply in determining rents for PBV projects with units exclusively made available to HUD-VASH families (see 24 CFR 983.301).

p. Special Housing Types

Special housing types can be particularly useful to HUD-VASH clients, as it can increase the availability of housing, and for some veterans, can be a better housing environment than a single-family unit. As such, PHAs must permit HUD-VASH clients to use the following special housing types for tenant-based HUD-VASH assistance, regardless of whether these types are permitted in their administrative plan for other families: single room occupancy (SRO); congregate housing; group home; shared housing; and cooperative housing. Regulations for these housing types can be found at 24 CFR part 982, subpart M.

Consistent with the regulations, HUD-VASH PBV can never be applied to shared housing.

III. Reporting Requirements

The VASH code was established for use on line 2n of the Family Report (form HUD-50058) or 2p of the MTW 50058, to indicate if the family participates in a special program. The information collection requested on both Family Reports has been approved by the Office of Management and Budget (OMB) and given OMB control number 2577-0083. No person is required to respond to, nor shall any person be subject to a penalty for failure to comply with a collection of information subject to the requirements of the Paperwork Reduction Act (PRA), unless that collection displays a currently valid OMB control number. This code must remain on the HUD-50058 and MTW 50058 for the duration of the HUD-VASH family's participation in the program. The PHA that administers the HUD-VASH voucher on behalf of the family (regardless of whether the PHA has received an allocation of HUD-VASH vouchers) must enter and maintain this code on the HUD-50058 or MTW 50058.

Data will also be captured in the Voucher Management System (VMS) on monthly leasing and expenditures for HUD-VASH vouchers.

For any additional systems reporting requirements that may be established, HUD will provide further guidance.

Dominique Blom,
General Deputy Assistant Secretary for Public and Indian Housing.

[FR Doc. 2021-20734 Filed 9-24-21; 8:45 am]

BILLING CODE 4210-67-P